DEPARTMENT OF COMMERCE

Foreign-Trade Zones Board

[B-35-2022]

Withdrawal of Production Notification; Foreign-Trade Zone (FTZ) 30—Salt Lake City, Utah; Albion Laboratories, Inc. (Mineral Amino Acid Chelates); Ogden, Utah

On August 15, 2022, Albion Laboratories, Inc. (Albion) submitted a notification of proposed production activity to the FTZ Board (the Board) for its facilities within Subzone 30E in Ogden, Utah. The notification was processed in accordance with the regulations of the FTZ Board (15 CFR part 400), including notice in the Federal Register inviting public comment (87 FR 51054, August 19, 2022). On October 31, 2022, Albion requested to withdraw the notification and the case has been closed without prejudice.

Dated: October 31, 2022.
Andrew McGilvray,
Executive Secretary.

[FR Doc. 2022-24026 Filed 11-3-22; 8:45 am]

BILLING CODE 3510-DS-P